DEPARTMENT OF DEFENSE

Department of the Air Force

[Docket ID: USAF-2013-0014]

Privacy Act of 1974; System of Records

AGENCY: Department of the Air Force, DoD.

ACTION: Notice to alter a system of records.

SUMMARY: The Department of the Air Force proposes to alter a system of records notice in its existing inventory of records systems subject to the Privacy Act of 1974 (5 U.S.C. 552a), as amended.

DATES: This proposed action will be effective on October 10, 2013 unless comments are received which result in a contrary determination. Comments will be accepted on or about October 9, 2013.

ADDRESSES: You may submit comments, identified by docket number and title, by any of the following methods:

* Federal Rulemaking Portal: http://www.regulations.gov.

Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act, were submitted on February 21, 2013 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: September 4, 2013.
Aaron Siegel,
Alternate OSD Federal Register Liaison Officer, Department of Defense.

F036 AF PC D

System Name:

Officer Performance Report (OPR)/Enlisted Performance Report (EPR) Appeal Case Files (January 22, 2009, 74 FR 4015)

Changes:

Change System ID to read “F036 AFPC T.”

* * * * *

System Location:

Delete entry and replace with “Air Force Personnel Center (AFPC), 550 C Street West, Randolph Air Force Base, TX 78150-4709; Air Reserve Personnel Center, Denver, 18420 East Silver Creek Avenue, Building 390, 68, Buckley Air Force Base, CO 80011-9502; and Military Personnel Sections (MPS). Official mailing addresses are published as an appendix to the Air Force's compilation of systems of records notices.”

Categories of individuals covered by the system:

Delete entry and replace with “Air Force Active Duty, Reserve, Air National Guard, retired and separated personnel who submit an appeal for correction of records.”

Categories of records in the system:

Delete entry and replace with “Individual's full name, Social Security Number (SSN) and/or DoD Identification Number (DoD ID Number), address, copy of applications, supporting documents, endorsements, and correspondence reflecting the board's decision on the case and other official records.”

Authority for maintenance of the system:

Delete entry and replace with “10 U.S.C. 8013, Secretary of the Air Force; Department of Defense Directive 1332.41, Boards for Correction of Military Records (BCMRs) and Discharge Review Boards (DRBs); Air Force Policy Directive 36-24, Military Evaluations; Air Force Instruction 36-2603, Air Force Board for Correction of Military Records; Air Force Instruction 36-2401, Correcting Officer and Enlisted Evaluation Reports; and E.O. 9397 (SSN) as amended.”

* * * * *

Retrievability:

Delete entry and replace with “Name and/or SSN.”

Safeguards:

Delete entry and replace with “Records are accessed by the program manager and by persons cleared for need-to-know. Records are stored in file cabinets in the building that are either locked or have controlled access entry requirements. Electronic files are only accessed by authorized personnel with a Secure Common Access Card (CAC) and need-to-know.”

Retention and Disposal:

Delete entry and replace with “Air Force Personnel Center and Air Reserve Personnel Center case files are maintained for three calendar years from date of last action as indicated in the file, then destroyed. Military Personnel section files are maintained for two calendar years from date of last action as indicated in the file, and then destroyed. Paper records are destroyed by tearing into pieces, shredding, pulping, macerating, or burning. Electronic records are destroyed by erasing, deleting, or overwriting.”

* * * * *

Notification Procedure:

Delete entry and replace with “Individuals seeking to determine whether this system of records contains information on themselves should address written requests to Air Force Personnel Center, Evaluations Programs Section, (HQ AFPC/DPSID), 550 C Street West, Suite 7, Randolph Air Force Base, TX 78150-4709 or to the Military Personnel Section where the appeal was processed.

Official mailing addresses are published as an appendix to the Air Force's compilation of systems of records notices.

Written request should contain full name, SSN and complete mailing address with notarized signature as below.

An unsworn declaration under penalty of perjury in accordance with section 1746 of 28 U.S.C. or notarized signatures are acceptable as a means of proving the identity of the individual.

If an unsworn declaration is executed within the United States, its territories, possessions, or commonwealths, it shall read `I declare (or certify, verify, or state) under penalty of perjury that the foregoing is true and correct. Executed on (date). (Signature).'

If an unsworn declaration is executed outside the United States, it shall read `I declare (or certify, verify, or state) under penalty of perjury under the laws of the United States of America that the foregoing is true and correct. Executed on (date). (Signature).' ”

Record Access Procedures:

Delete entry and replace with “Individuals seeking to access records about themselves contained in this system should address written requests to the Air Force Personnel Center, Evaluations Programs Section, Air Force Personnel Center, (HQ AFPC/DPSID), 550 C Street West, Randolph Air Force Base, TX 78150-4709 or to the Military Personnel Section where the appeal was processed.

Official mailing addresses are published as an appendix to the Air Force's compilation of systems of records notices.”

Written request should contain full name, SSN and complete mailing address with notarized signature as below.

An unsworn declaration under penalty of perjury in accordance with section 1746 of 28 U.S.C. (Reference (n)) or notarized signatures are acceptable as a means of proving the identity of the individual.

If an unsworn declaration is executed within the United States, its territories, possessions, or commonwealths, it shall read `I declare (or certify, verify, or state) under penalty of perjury that the foregoing is true and correct. Executed on (date). (Signature).'

If an unsworn declaration is executed outside the United States, it shall read `I declare (or certify, verify, or state) under penalty of perjury under the laws of the United States of America that the foregoing is true and correct. Executed on (date). (Signature).' ”

* * * * *

[FR Doc. 2013-21875 Filed 9-6-13; 8:45 am]

BILLING CODE 5001-05-P